DEPARTMENT OF ENERGY

Federal Energy Regulatory Commission

[Docket No. CP02-418-000]

Columbia Gas Transmission Corporation; Notice of Application

August 14, 2002.

Take notice that on August 6, 2002, Columbia Gas Transmission Corporation (Columbia), 12801 Fair Lakes Parkway, Fairfax, Virginia, 22030, filed in [Docket No. CP02-418-000 an application pursuant to Section 7(b) of the Natural Gas Act (NGA) for permission and approval to abandon its Storage Well No. 7519 and associated appurtenances in its Holmes Storage Field in Holmes County, Ohio, all as more fully set forth in the application.

Copies of this application are on file with the Commission and are available for public inspection. This filing is available for review at the Commission in the Public Reference Room or may be viewed on the Commission's website at http://www.ferc.gov using the “FERRIS” link. Enter the docket number excluding the last three digits in the docket number field to access the document. For assistance, call (202) 502-8222 or for TTY, (202) 208-1659.

Columbia states that the due to active stream erosion and the physical condition of the facilities proposed for abandonment are such that an expensive repair or abandonment is required. Columbia further states a concern of the possibility of (1) corrosion of the piping due to stream encroachment; (2) ingress/egress issues related to the encroaching stream; (3) gas migrating to nearby water wells; and (4) debris carried by the stream under flood conditions striking the well and compromising the integrity of the well. The total cost of the abandonment listed in Columbia's application is $110,013.

Any questions regarding the application should be directed to Frederic J. George, Senior Attorney, Columbia Gas Transmission Corporation, P.O. Box 1273, Charleston, West Virginia, 26301 at (304) 627-3462 or by fax at (304) 627-3305.

There are two ways to become involved in the Commission's review of this project. First, any person wishing to obtain legal status by becoming a party to the proceedings for this project should, on or before September 4, 2002, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's web site under the “e-filing” link.

If the Commission decides to set the application for a formal hearing before an Administrative Law Judge, the Commission will issue another notice describing that process. At the end of the Commission's review process, a final Commission order approving or denying a certificate will be issued.

Linwood A. Watson, Jr.,
Deputy Secretary.

[FR Doc. 02-21147 Filed 8-19-02; 8:45 am]

BILLING CODE 6717-01-P